DEPARTMENT OF TRANSPORTATION

Federal Aviation Administration

14 CFR Part 39

[Docket No. FAA-2024-1884; Project Identifier AD-2023-00948-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2023-08-04, which applies to certain The Boeing Company Model 787-8, 787-9, and 787-10 airplanes. AD 2023-08-04 requires a detailed visual inspection of all door 1 and door 3 lavatory and galley potable water systems for any missing or incorrectly installed clamshell couplings, and applicable on-condition actions. Since the FAA issued AD 2023-08-04, Boeing has discovered that some couplings did not have the required safety strap and has developed a design solution that replaces the couplings with couplings that have safety straps to address the unsafe condition. This proposed AD would retain the requirements of AD 2023-08-04 and require a detailed inspection of all clamshell couplings for the presence and correct installation of safety straps at door 1 and door 3 lavatories and galleys with a potable water system, and applicable on-condition actions. The AD would also prohibit the installation of affected parts at inspection locations and remove Model 787-10 airplanes from the applicability. The FAA is proposing this AD to address the unsafe condition on these products.

DATES: The FAA must receive comments on this proposed AD by August 29, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1884; or in person at Docket Operations between 9 a.m. and 5 p.m., Monday through Friday, except Federal holidays. The AD docket contains this NPRM, any comments received, and other information. The street address for Docket Operations is listed above.

Material Incorporated by Reference:

• For Boeing material identified in this NPRM, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov by searching for and locating Docket No. FAA-2024-1884.

FOR FURTHER INFORMATION CONTACT: Brandon Lucero, Aviation Safety Engineer, FAA, 2200 South 216th St., Des Moines, WA 98198; phone: 206-231-3569; email: Brandon.Lucero@faa.gov.

SUPPLEMENTARY INFORMATION:

Comments Invited

The FAA invites you to send any written relevant data, views, or arguments about this proposal. Send your comments to an address listed under ADDRESSES. Include “Docket No. FAA-2024-1884; Project Identifier AD-2023-00948-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Brandon Lucero, Aviation Safety Engineer, FAA, 2200 South 216th St., Des Moines, WA 98198; phone: 206-231-3569; email: Brandon.Lucero@faa.gov. Any commentary that the FAA receives that is not specifically designated as CBI will be placed in the public docket for this rulemaking.

Background

The FAA issued AD 2023-08-04, Amendment 39-22419 (88 FR 33823, May 25, 2023) (AD 2023-08-04), for certain The Boeing Company Model 787-8, 787-9, and 787-10 airplanes. AD 2023-08-04 was prompted by reports of a loss of water pressure during flight and water leaks that affected multiple pieces of electronic equipment. AD 2023-08-04 requires a detailed visual inspection of all door 1 and door 3 lavatory and galley potable water systems for any missing or incorrectly installed clamshell couplings, and applicable on-condition actions. The agency issued AD 2023-08-04 to address incorrectly installed or missing lavatory and galley clamshell couplings that could lead to water leaks and water migration to critical flight equipment, which may affect the continued safe flight and landing of the airplane.

Actions Since AD 2023-08-04 Was Issued

The FAA issued AD 2023-08-04 as an interim action and indicated that the FAA might consider additional rulemaking. AD 2023-08-04 requires an inspection of the potable water clamshell couplings, regardless of the safety-strap configuration. Boeing has determined that some clamshell couplings do not have the required safety straps and has since developed procedures to ensure that affected clamshell couplings have correctly installed safety straps. The FAA has now determined that further rulemaking is necessary, and this proposed AD follows from that determination.

Model 787-10 airplanes, which are all delivered with the safety-strap coupling, are no longer subject to the unsafe condition, and do not need the new proposed inspections. Therefore, those airplanes are not included in the applicability.

The FAA is proposing this AD to prevent a loss of water pressure during flight and water leaks that can affect multiple pieces of electronic equipment. The unsafe condition, if not addressed, could lead to water migration to critical flight equipment, which may affect the continued safe flight and landing of the airplane.

FAA's Determination

The FAA is issuing this NPRM after determining that the unsafe condition described previously is likely to exist or develop on other products of the same type design.

Related Material Under 1 CFR Part 51

The FAA reviewed Boeing Alert Requirements Bulletin B787-81205-SB250299-00 RB, Issue 001, dated July 31, 2023. This material specifies procedures for a detailed inspection for the presence and correct installation of safety straps at the clamshell couplings at door 1 and door 3 lavatories and galleys with a potable water system. The material also specifies applicable on-condition actions including correcting the installation of the safety strap, replacing any clamshell coupling that does not have a strap with a new clamshell coupling that has a safety strap, and performing a water leak test.

This proposed AD would also require Boeing Alert Requirements Bulletin B787-81205-SB380021-00 RB, Issue 001, dated August 12, 2022, which the Director of the Federal Register approved for incorporation by reference as of June 29, 2023 (88 FR 33823, May 25, 2023).

This material is reasonably available because the interested parties have access to it through their normal course of business or by the means identified in ADDRESSES.

Proposed AD Requirements in This NPRM

This proposed AD would retain all of the requirements of AD 2023-08-04. This proposed AD would require accomplishing the actions specified in the material already described, except for any differences identified as exceptions in the regulatory text of this proposed AD. This proposed AD would also prohibit the installation of affected parts at inspection locations and remove Model 787-10 airplanes from the applicability. For information on the procedures and compliance times, see this material at regulations.gov under Docket No. FAA-2024-1884.

Costs of Compliance

The FAA estimates that this AD, if adopted as proposed, would affect 165 airplanes of U.S. registry. The FAA estimates the following costs to comply with this proposed AD:

Estimated Costs
Action | Labor cost | Parts cost | Cost per product | Cost on U.S. operators
Clamshell coupling inspection, per lavatory or galley (retained actions from AD 2023-08-04) | 1 work-hour × $85 per hour = $85 | $0 | $85 | $14,025
Safety strap inspection, per lavatory/galley (new proposed action) | 2 work-hours × $85 per hour = $170, per lavatory/galley | 0 | $170, per lavatory/galley | 28,050

The FAA estimates the following costs to do any necessary on-condition actions that would be required based on the results of the proposed inspection. The agency has no way of determining the number of aircraft that might need these actions:

On-Condition Costs
Action | Labor cost | Parts cost | Cost per product
Correct installation for clamshell coupling with safety strap that was installed incorrectly | 0.25 work-hour × $85 per hour = $21.25 | $0 | $21.25
Install clamshell coupling 14C34-08C | 0.25 work-hour × 85 per hour = 21.25 | 267 | 288.25
Install clamshell coupling 14C33-08 | 0.25 work-hour × 85 per hour = 21.25 | 47 | 68.25
Leak test | 0.5 work-hour × 85 per hour = 42.50 | 0 | 42.50

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-08-04, Amendment 39-22419 (88 FR 33823, May 25, 2023), and

b. Adding the following new AD:

The Boeing Company: Docket No. FAA-2024-1884; Project Identifier AD-2023-00948-T.

(a) Comments Due Date

The FAA must receive comments on this airworthiness directive (AD) by August 29, 2024.

(b) Affected ADs

This AD replaces AD 2023-08-04, Amendment 39-22419 (88 FR 33823, May 25, 2023) (AD 2023-08-04).

(c) Applicability

This AD applies to The Boeing Company Model 787-8 and 787-9 airplanes, certificated in any category, as specified in Boeing Alert Requirements Bulletin B787-81205-SB380021-00 RB, Issue 001, dated August 12, 2022.

(d) Subject

Air Transport Association (ATA) of America Code 38, Water/waste.

(e) Unsafe Condition

This AD was prompted by reports of a loss of water pressure during flight and water leaks that affected multiple pieces of electronic equipment. The FAA is issuing this AD to prevent a loss of water pressure during flight and water leaks that can affect multiple pieces of electronic equipment. The unsafe condition, if not addressed, could lead to water leaks and water migration to critical flight equipment, which may affect the continued safe flight and landing of the airplane.

(f) Compliance

Comply with this AD within the compliance times specified, unless already done.

(g) Retained Clamshell Coupling Inspection, With No Changes

This paragraph restates the requirements of paragraph (g) of AD 2023-08-04, with no changes. Except as specified by paragraph (h) of this AD: At the applicable times specified in the “Compliance” paragraph of Boeing Alert Requirements Bulletin B787-81205-SB380021-00 RB, Issue 001, dated August 12, 2022, do all applicable actions identified in, and in accordance with, the Accomplishment Instructions of Boeing Alert Requirements Bulletin B787-81205-SB380021-00 RB, Issue 001, dated August 12, 2022.

Note 1 to paragraph (g): Guidance for accomplishing the actions required by paragraph (g) of this AD can be found in Boeing Alert Service Bulletin B787-81205-SB380021-00, Issue 001, dated August 12, 2022, which is referred to in Boeing Alert Requirements Bulletin B787-81205-SB380021-00 RB, Issue 001, dated August 12, 2022.

(h) Retained Exception to Service Information Specifications, With No Changes

This paragraph restates the exceptions of paragraph (h) of AD 2023-08-04, with no changes. Where the Compliance Time columns of the table in the “Compliance” paragraph of Boeing Alert Requirements Bulletin B787-81205-SB380021-00 RB, Issue 001, dated August 12, 2022, refer to the Issue 001 date of Requirements Bulletin B787-81205-SB380021-00 RB, this AD requires using June 29, 2023 (the effective date of AD 2023-08-04).

(i) Retained Credit for Previous Actions, With No Changes

This paragraph restates paragraph (i) of AD 2023-08-04, with no changes. This paragraph provides credit for the actions specified in paragraph (g) of this AD, if those actions were performed before June 29, 2023 (the effective date of AD 2023-08-04), using Multi Operator Message MOM-MOM-21-0554-01B, dated December 14, 2021 (for lavatory inspections); and MOM-MOM-22-0229-01B, dated April 29, 2022 (for galley inspections).

(j) New Required Actions

For airplanes identified in Boeing Alert Requirements Bulletin B787-81205-SB250299-00 RB, Issue 001, dated July 31, 2023: Except as specified by paragraph (k) of this AD, at the applicable times specified in the “Compliance” paragraph of Boeing Alert Requirements Bulletin B787-81205-SB250299-00 RB, Issue 001, dated July 31, 2023, do all applicable actions identified in, and in accordance with, the Accomplishment Instructions of Boeing Alert Requirements Bulletin B787-81205-SB250299-00 RB, Issue 001, dated July 31, 2023.

Note 2 to paragraph (j): Guidance for accomplishing the actions required by this AD can be found in Boeing Alert Service Bulletin B787-81205-SB250299-00, Issue 001, dated July 31, 2023, which is referred to in Boeing Alert Requirements Bulletin B787-81205-SB250299-00 RB, Issue 001, dated July 31, 2023.

(k) New Exception to Service Information Specifications

Where the Compliance Time columns of the tables in the “Compliance” paragraph of Boeing Alert Requirements Bulletin B787-81205-SB250299-00 RB, Issue 001, dated July 31, 2023, use the phrase “the Issue 001 date of Requirements Bulletin B787-81205-SB250299-00 RB,” this AD requires using the effective date of this AD.

(l) Terminating Action for Clamshell Coupling Inspection

For the airplanes identified in Boeing Alert Requirements Bulletin B787-81205-SB250299-00 RB, Issue 001, dated July 31, 2023: Accomplishment of the actions required by paragraph (j) of this AD terminates the requirements of paragraph (g) of this AD.

(m) Parts Installation Prohibition

As of the effective date of this AD, no person may install a clamshell coupling, part number (P/N) 14C02-08C or P/N AS1655A08, at inspection locations where P/N 14C02-08C or P/N AS1655A08 was replaced with P/N 14C34-08C or P/N 14C33-08 on any airplane in accordance with Boeing Alert Requirements Bulletin B787-81205-SB250299-00 RB, Issue 001, dated July 31, 2023.

(n) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (o)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2023-08-04 are approved as AMOCs for the corresponding provisions of Boeing Alert Requirements Bulletin B787-81205-SB380021-00 RB, Issue 001, dated August 12, 2022, that are required by paragraph (g) of this AD.

(o) Related Information

(1) For more information about this AD, contact Brandon Lucero, Aviation Safety Engineer, FAA, 2200 South 216th St., Des Moines, WA 98198; phone: 206-231-3569; email: Brandon.Lucero@faa.gov.

(2) Material identified in this AD that is not incorporated by reference is available at the addresses specified in paragraph (p)(5) of this AD.

(p) Material Incorporated by Reference

(1) The Director of the Federal Register approved the incorporation by reference (IBR) of the service information listed in this paragraph under 5 U.S.C. 552(a) and 1 CFR part 51.

(2) You must use this material as applicable to do the actions required by this AD, unless this AD specifies otherwise.

(3) The following material was approved for IBR on [DATE 35 DAYS AFTER PUBLICATION OF THE FINAL RULE].

(i) Boeing Alert Requirements Bulletin B787-81205-SB250299-00 RB, Issue 001, dated July 31, 2023.

(ii) [Reserved]

(4) The following material was approved for IBR on June 29, 2023 (88 FR 33823, May 25, 2023).

(i) Boeing Alert Requirements Bulletin B787-81205-SB380021-00 RB, Issue 001, dated August 12, 2022.

(ii) [Reserved]

(5) For Boeing material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on July 2, 2024.
Suzanne Masterson,
Deputy Director, Integrated Certificate Management Division, Aircraft Certification Service.

[FR Doc. 2024-15235 Filed 7-12-24; 8:45 am]

BILLING CODE 4910-13-P